DEPARTMENT OF COMMERCE

National Oceanic and Atmospheric Administration

[I.D. 051401C]

Marine Mammals; Scientific Research and Enhancement Permit (PHF# 116-1477)

AGENCY: National Marine Fisheries Service (NMFS), National Oceanic and Atmospheric Administration (NOAA), Commerce.

ACTION: Receipt of application for amendment.

SUMMARY: Notice is hereby given that SeaWorld of Texas, 10500 Sea World Drive, San Antonio, Texas, 78251, has applied in due form for an amendment to Permit No. 116-1477 to take Hawaiian monk seals (Monachus schauinslandi) for purposes of scientific research.

DATES: Written comments must be received on or before June 20, 2001.

ADDRESSES: The application and related documents are available for review upon written request or by appointment in the following office(s): (see SUPPLEMENTARY INFORMATION).

Written comments or requests for a public hearing on this request, should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or by other electronic media.

FOR FURTHER INFORMATION CONTACT: Amy Sloan or Ruth Johnson, (301)713-2289.

SUPPLEMENTARY INFORMATION: The subject permit amendment is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered fish and wildlife (50 CFR part 222.23).

Permit No. 116-1477 authorizes the permit holder to permanently transfer ten (10) captive, unreleasable female Hawaiian monk seals from the National Marine Fisheries Service’s Kewalo Research Facility to SeaWorld of Texas for research and enhancement purposes. The primary objective of the Permit is to make the seals available for scientific research on an opportunistic basis in order to benefit the wild population of Hawaiian monk seals. As provided for in the Permit, the permit holder requests authorization to conduct research studies on the ten captive female Hawaiian monk seals now permanently held at SeaWorld of Texas. The research study involves systematic feeding of certain prey to the captive seals and subsequent comparison of fatty acid composition of blubber samples with the fatty acid composition of the food consumed. The goal is to determine whether the assessment of fatty acid signatures in blubber samples of free-ranging Hawaiian monk seals may be an appropriate and reliable method for qualitative and quantitative assessment of their diet. This study is aimed at reducing or eliminating adverse interactions between current and anticipated fishing operations with free-ranging Hawaiian monk seals.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this amendment application to the Marine Mammal Commission and its Committee of Scientific Advisors. The application and related documents are available for review in the following office(s):

Permits Division, Office of Protected Resources, NMFS, 1315 East-West Highway, Room 13705, Silver Spring, MD 20910; phone (301) 713-2289; fax (301) 713-0376;

Regional Administrator, Southwest Region, NMFS, 501 West Ocean Boulevard, Suite 4200, Long Beach, CA 90802-4213; phone (562) 980-4001; fax (562) 980-4018;

Regional Administrator, Southeast Region, NMFS, 9721 Executive Center Drive N., St. Petersburg, FL 33702-2432; phone (727) 570-5301; fax (727) 570-5320; and

Protected Species Program Manager, Pacific Islands Area Office, 1601 Kapiolani Blvd., Room 1110, Honolulu, HI 96814-4700; phone (808) 973-2935; fax (808) 973-2941.

Dated: May 15, 2001.
E. Ruth Johnson,
Acting Chief, Permits and Documentation Division, Office of Protected Resources, National Marine Fisheries Service.

[FR Doc. 01-12746 Filed 5-18-01; 8:45 am]

BILLING CODE 3510-22-S